DEPARTMENT OF DEFENSE

Department of the Army, Corps of Engineers

Proposal To Reissue and Modify Nationwide Permits; Notice

AGENCY: Army Corps of Engineers, DoD.

ACTION: Reschedule nationwide permit public hearing.

SUMMARY: In the August 9, 2001, issue of the Federal Register (66 FR 42070) the Corps of Engineers (Corps) announced that it was soliciting comments for the reissuance of the proposed Nationwide Permits (NWPs), General Conditions, and definitions with some modifications. The notice also announced that a public hearing for the proposed Nationwide Permits would be held on September 12, 2001. Due to the attack on the World Trade Center and the Pentagon on September 11, 2001, the hearing was postponed. The hearing has been rescheduled for September 26, 2001.

DATES: The hearing will be held at 12:30 p.m. on September 26, 2001.

ADDRESSES: The hearing will be held at the GAO Building, 441 “G” Street, NW., Washington, DC 20314-1000, 7th floor auditorium.

FOR FURTHER INFORMATION CONTACT: Rich White at (202) 761-4599 or access the U.S. Army Corps of Engineers Regulatory homepage at: http://www.usace.army.mil/inet/functions/cw/cecwo/reg/. Please send comments in regards to the reissuance of the proposed Nationwide Permits (NWPs), General Conditions, and definitions with some modifications to HQUSACE, ATTN: CECW-OR, 441 “G” Street, NW., Washington, DC 20314-1000.

SUPPLEMENTARY INFORMATION: Current security measures require that persons interested in attending the hearing must pre-register with us before 4 p.m. September 25, 2001. Please contact Rich White at 202-761-4599 to pre-register. The public should enter on the “G” Street side of the GAO Building. All attendees are required to show photo identification and must be escorted to the auditorium by Corps personnel. Attendee's bags and other possessions are subject to be searched. All attendees arriving between one-half hour before and one-half hour after 12:30 p.m. will be escorted to the hearing. Those that are not pre-registered and/or arriving later than the allotted time will be unable to attend the public hearing.

The public is invited to provide comments on this notice to reissue and modify NWPs. Please send comments to HQUSACE, ATTN: CECW-OR, 441 “G” Street, NW., Washington, DC 20314-1000.

Dated: September 13, 2001.
Charles M. Hess,
Chief, Operations Division, Directorate of Civil Works.

[FR Doc. 01-23286 Filed 9-17-01; 8:45 am]

BILLING CODE 3710-92-P